DEPARTMENT OF COMMERCE

National Oceanic and Atmospheric Administration

RIN 0648-XD556

Fisheries of the South Atlantic; South Atlantic Fishery Management Council; Public Hearing

AGENCY: National Marine Fisheries Service (NMFS), National Oceanic and Atmospheric Administration (NOAA), Commerce.

ACTION: Notice of public hearing for Regulatory Amendment 22 to the Fishery Management Plan for the Snapper Grouper Fishery of the South Atlantic Region.

SUMMARY: The South Atlantic Fishery Management Council (Council) will hold a public hearing via webinar to solicit public comment on proposed changes to the management of wreckfish and gag, two species in the snapper grouper complex. The webinar is open to the public.

DATES: The webinar will begin at 6 p.m. on Thursday, November 6, 2014.

ADDRESSES: Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Regulatory Amendment 22 proposes addressing management measures for gag grouper and wreckfish. Specifically, the amendment would adjust the acceptable biological catch (ABC), annual catch limit (ACL) and optimum yield (OY) for wreckfish and gag in response to recently completed assessments for those stocks. In addition, the amendment proposes modifications to the bag limit for gag. The Council will accept public comment on Regulatory Amendment 22 until 5 p.m. on November 14, 2014. Comments may be submitted in writing at the Council address above. Comments may also be submitted via fax (843) 769-4520 or email (Mike.Collins@safmc.net) with the subject line “Reg 22”.

Special Accommodations

Webinars are accessible to people with disabilities. Requests for auxiliary aids should be directed to the council office (see ADDRESSES) 3 days prior to the webinar.

Note: The times and sequence specified in this agenda are subject to change.

Dated: October 15, 2014.
Tracey L. Thompson,
Acting Deputy Director, Office of Sustainable Fisheries, National Marine Fisheries Service.

[FR Doc. 2014-24854 Filed 10-17-14; 8:45 am]

BILLING CODE 3510-22-P